DEPARTMENT OF TRANSPORTATION

Pipeline and Hazardous Materials Safety Administration

Notice of Application for Modification of Special Permit

AGENCY: Office of Hazardous Materials Safety, Pipeline and Hazardous Materials Safety Administration, PHMSA, DOT.

ACTION: List of application for modification of special permits.

SUMMARY: In accordance with the procedures governing the application for, and the processing of, special permits from the Department of Transportation's Hazardous Material Regulations (49 CFR part 107, Subpart B), notice is hereby given that the Office of Hazardous Materials Safety has received the applications described herein. This notice is abbreviated to expedite docketing and public notice. Because the sections affected, modes of transportation, and the nature of application have been shown in earlier Federal Register publications, they are not repeated here. Requests for modification of special permits (e.g. to provide for additional hazardous materials, packaging design changes, additional mode of transportation, etc.) are described in footnotes to the application number. Application numbers with the suffix “M” denote a modification request. These applications have been separated from the new application for special permits to facilitate processing.

DATES: Comments must be received on or before March 9, 2015.

ADDRESSES: Send comments to: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Copies of the applications are available for inspection in the Records Center, East Building, PHH-30, 1200 New Jersey Avenue SE., Washington, DC or at http://regulations.gov.

This notice of receipt of applications for modification of special permit is published in accordance with Part 107 of the Federal Hazardous Materials Transportation Law (49 U.S.C. 5117(b); 49 CFR 1.53(b)).

Issued in Washington, DC, on February 4, 2015.
Donald Burger,
Chief, General Approvals and Permits.

Application No. | Docket No. | Applicant | Regulation(s) affected | Nature of special permits thereof
MODIFICATION SPECIAL PERMITS
10180-M |  | Fireboy-Xintex, Inc., Grand Rapids, MI | 49 CFR 173.304(a)(2); 173.34(d) | To modify the special permit to authorize fire extinguisher designs.
14146-M |  | Brunswick Corporation, Lake Forest, IL | 49 CFR 173.220(e) | To modify the special permit to allow a maximum of 120ml flammable liquid fuel in the engine and; exemption from the IMDG Code, Special Provision 961.
14152-M |  | SAES Pure Gas, Inc., San Luis Obispo, CA | 49 CFR 173.187 | To modify the special permit to authorize additional outer packaging and shielding gages.
15885-M |  | PHI, Inc., Lafayette, LA | 49 CFR 172.101 Table Column (9A) | To modify the special permit to authorize additional hazardous materials.
16279-M |  | Veolia ES Technical Solutions, L.L.C., Flanders, NJ | 49 CFR 173.196(a) and (b). | To modify the and (b) special permit originally issued on an emergency basis to authorize an additional two years.

[FR Doc. 2015-02983 Filed 2-19-15; 8:45 am]

BILLING CODE 4909-60-P